ENVIRONMENTAL PROTECTION AGENCY

40 CFR Part 271

[FRL-6892-7]

Vermont: Final Authorization of State Hazardous Waste Management Program Revisions

AGENCY: Environmental Protection Agency (EPA).

ACTION: Proposed rule.

SUMMARY: Vermont has applied to EPA for final authorization of certain changes to its hazardous waste program under the Resource Conservation and Recovery Act (RCRA). EPA proposes to grant final authorization to Vermont. In the “Rules and Regulations” section of this Federal Register, EPA is authorizing the changes by an immediate final rule. EPA did not make a proposal prior to the immediate final rule because we believe this action is not controversial and do not expect comments that oppose it. We have explained the reasons for this authorization in the preamble to the immediate final rule. Unless we get written comments which oppose this authorization during the comment period, the immediate final rule will become effective on the date it establishes, and we will not take further action on this proposal. If we get comments that oppose this action, we will withdraw the immediate final rule and it will not take effect. We will then respond to public comments in a later final rule based on this proposal. You may not have another opportunity for comment. If you want to comment on this action, you must do so at this time.

DATES: Send your written comments by November 27, 2000.

ADDRESSES: Send written comments to Geri Mannion, EPA New England, One Congress Street, Suite 1100 (CHW), Boston, MA 02114-2023; Phone number: (617) 918-1648. You can examine copies of the materials submitted by Vermont during normal business hours at the following locations: EPA New England Library, One Congress Street, Suite 1100 (LIB), Boston, MA 02114-2023; Phone number: (617) 918-1990; Business hours: 9 a.m. to 4 p.m.; or the Agency of Natural Resources, 103 South Main Street—West Office Building, Waterbury, VT 05671-0404; Phone number: (802) 241-3888; Business hours: 7:45 a.m. to 4:30 p.m.

FOR FURTHER INFORMATION CONTACT: Geri Mannion at (617) 918-1648.

SUPPLEMENTARY INFORMATION: In addition to proposing the authorization for changes to Vermont's hazardous waste program, EPA is making a technical correction to provisions referenced in its immediate final rule published in the Federal Register on May 3, 1003 (58 FR 31911) which authorized the State for revisions to its hazardous waste program. This proposed rule relates only to the immediate final rule to authorize the State's program changes and not to the technical corrections to the 1993 Federal Register.

For additional information, please see the immediate final rule published in the “Rules and Regulations” section of this Federal Register.

Dated: October 18, 2000.
Mindy S. Lubber,
Regional Administrator, EPA New England.

[FR Doc. 00-27577 Filed 10-25-00; 8:45 am]

BILLING CODE 6560-50-P